DEPARTMENT OF COMMERCE

National Oceanic and Atmospheric Administration

50 CFR Part 635

[I.D. 061103B]

Atlantic Highly Migratory Species; Bluefin Tuna Catch Limit Adjustments

AGENCY: National Marine Fisheries Service (NMFS), National Oceanic and Atmospheric Administration (NOAA), Commerce.

ACTION: Adjustment of Angling and General Category Retention Limits

SUMMARY: NMFS adjusts the daily retention limit for the Angling and General category fisheries for Atlantic bluefin tuna (BFT) for the 2003 fishing year that began June 1, 2003, and ends May 31, 2004. Vessels permitted in the Atlantic Highly Migratory Species (HMS) Angling and the Atlantic HMS Charter/Headboat categories are eligible to land BFT under the BFT Angling category quotas. Vessels permitted in the Atlantic tunas General category and Atlantic HMS Charter/Headboat categories are eligible to land BFT under the BFT General category quotas. The seasonal adjustments to the daily retention limit for each BFT size class are specified in the DATES and SUPPLEMENTARY INFORMATION sections of this document. This action is being taken to provide increased fishing opportunities in all areas without risking overharvest in each category.

DATES: Effective June 15 through October 31, 2003, the daily recreational retention limit for vessels fishing under the Angling category quota in all areas is one BFT per person, measuring 27 to less than 73 inches (69 to less than 185 cm) curved fork length, with a maximum limit of six BFT per vessel. Effective August 15 through October 31, 2003, the daily recreational retention limit for headboats in all areas is one BFT per passenger (not including Captain and crew), measuring 27 to less than 73 inches (69 to less than 185 cm) curved fork length, with a maximum of 35 BFT per vessel. This limit applies to all headboats defined as a vessel that possess an Atlantic HMS Charter/Headboat permit and that are inspected and licenced by the Coast Guard to carry more than six passengers. Effective November 1, 2003 through May 31, 2004, the daily recreational retention limit is one large school, or small medium BFT, measuring 47 to less than 73 inches (119 to less than 185 cm) curved fork length, per vessel for all vessels fishing under the Angling category quota in all areas.

Effective June 15, 2003 through August 31, 2003, the General category daily retention limit in all areas will be adjusted to two large medium or giant BFT, measuring 73 inches (185 cm) or larger, for all vessels fishing under the General category quota.

FOR FURTHER INFORMATION CONTACT: Brad McHale, (978) 281-9260.

SUPPLEMENTARY INFORMATION: Regulations implemented under the authority of the Atlantic Tunas Convention Act (16 U.S.C. 971 et seq.) and the Magnuson-Stevens Conservation and Management Act (16 U.S.C. 1801 et seq.) governing the harvest of BFT by persons and vessels subject to U.S. jurisdiction are found at 50 CFR part 635. Section 635.27 subdivides the U.S. BFT quota recommended by the International Commission for the Conservation fo Atlantic Tunas (ICCAT) among various domestic fishing categories, and General category effort controls (including time-period subquotas and restricted fishing days (RFDs)) are specified annually under 50 CFR 635.23(a) and 635.27(a).

Implementing regulations for the Atlantic tuna fisheries at § 635.23 set the daily retention limits for BFT and allow for adjustments to the daily retention limits in order to provide for maximum utilization of the quota over the longest possible period of time. NMFS may increase or reduce the per angler retention limit for any size class BFT or may change the per angler limit to a per boat limit or the per boat limit to a per angler limit. Size class categories of BFT are defined as follows: school size BFT measure 27 to less than 47 inches (69 to less than 119 cm) curved fork length (CFL); large school BFT measure 47 to less than 59 inches (119 to less than 150 cm) CFL; small medium BFT measure 59 to less than 73 inches (150 to less than 185 cm) CFL; large medium BFT measure 73 to less than 81 inches (185 to less than 206 cm) CFL; and giant BFT measure 81 inches or greater (206 cm or greater) CFL.

Angling Category Retention Limit

A recommendation of ICCAT requires that NMFS limit the catch of school BFT to no more than eight percent by weight of the total domestic landings quota over each four-consecutive-year period. NMFS is implementing this ICCAT recommendation through annual and inseason adjustments to the school BFT retention limits, as necessary, and through the establishment of a school BFT reserve (64 FR 29090, May 28, 1999; 64 FR 29806, June 3, 1999).

The ICCAT recommendation allows for interannual adjustments for overharvests and underharvests, provided that the eight percent landings limit is not exceeded over the applicable 4-consecutive-year period. The 2003 fishing year is the first year in the current accounting period. This multi-year block quota approach provides NMFS with the flexibility to enhance fishing opportunities and to collect information on a broad range of BFT size classes.

Regulations at 50 CFR 635.23(b) restrict vessels fishing under the BFT Angling category quota to one BFT per vessel per day, which may be from the school, large school, or small medium category and, in addition, one large medium or giant BFT per vessel per year. This retention limit is subject to adjustment to provide for maximum utilization of the quota and enhanced fishing opportunities over the range of the recreational fisheries.

In 2002, NMFS increased the Angling category daily retention limit to four school, large school, or small medium BFT from June 15 through October 31, which is when recreational-sized BFT are on the fishing grounds, and then reduced it to one large school, or small medium BFT for November 1, 2002 through May 31, 2003 (67 FR 39869, June 11, 2002). The 2002 fishing year ended on May 31, 2003, and there is quota carry-over in the Angling category. Because of the large amount of quota available this year in the Angling category (over 499.2 metric tons (mt), 231 of which is carry-over from 2002) NMFS has determined that it is appropriate to adjust the recreational retention limit.

Since June 1, 2003, the retention limit of one school, large school or small medium as specified at 50 CFR 635.23(b) has been in effect. Effective June 15 through October 31, 2003, NMFS adjusts the daily retention limit for all areas to one BFT per person with a maximum of six BFT per vessel, in any combination of the school, large school, or small medium size classes. This limit applies to all vessels permitted in the Atlantic HMS Angling category and to vessels permitted in the Atlantic HMS Charter/Headboat category.

Headboat Retention Limit

Over the last several years NMFS has also received comments that a recreational retention limit of three or four BFT per vessel per day does not provide reasonable fishing opportunities for headboats, which may carry up to 40 passengers on a tuna fishing trip. Headboats are defined as vessels that posses an Atlantic HMS Charter/Headboat category permit and that are inspected and licenced by the Coast Guard to carry more than six passengers. Headboat operators have requested a modified retention limit for their vessels that recognizes the high numbers of passengers they carry. On December 18, 2002, NMFS published a final rule that clarified the procedures to set differential BFT retention limits to provide equitable fishing opportunities for all types of fishing vessels (67 FR 77434). As noted above, the 2002 season closed on May 31, 2003, and there is quota carry-over from 2002. Because of the large amount of quota available this year in the Angling category (over 499.2 metric tons (mt), 231 mt of which is carry-over from 2002), NMFS has determined that it is appropriate to implement an alternative retention limit for headboats.

Effective August 15, 2003, which is when headboats normally target BFT, the daily recreational retention limit for headboats in all areas will be one BFT per passenger (not including Captain and crew), measuring 27 to less than 73 inches curved fork length, with a maximum of 35 BFT per vessel. This limit applies to all headboats defined as vessels that possess an Atlantic HMS Charter/Headboat permit and that are inspected and licenced by the Coast Guard to carry more than six passengers.

Monitoring and Reporting

From November 1, 2003, through May 31, 2004, the daily retention limit for all vessels fishing under the Angling category quota is one large school or small medium BFT per vessel. Regardless of the length of the trip, no more than a single day's allowable catch may be possessed or retained.

NMFS selected the daily retention limits and the duration of the daily retention limit adjustments after examining past catch and effort rates and the available quota for the 2003 fishing year. NMFS will continue to monitor the Angling category fishery closely through the Automated Landings Reporting System, the state harvest tagging programs in North Carolina and Maryland, and the Large Pelagics Survey. Depending on the level of fishing effort and catch rates of BFT, NMFS may determine that an interim closure or an additional retention limit adjustment is necessary to enhance scientific data collection from, and fishing opportunities in, all geographic areas. Additionally, NMFS may determine that an allocation from the school BFT reserve is warranted to further fishery management objectives.

Closures or subsequent adjustments to the daily retention limit, if any, will be published in the Federal Register. In addition, anglers may call the Atlantic Tunas Information Line at (888) 872-8862 or (978) 281-9305 for updates on quota monitoring and retention limit adjustments. Anglers aboard Atlantic HMS Charter/Headboat category vessels, when engaged in recreational fishing for school, large school, and small medium BFT, are subject to the same rules as anglers aboard Angling category vessels. All BFT landed under the Angling category quota must be reported within 24 hours of landing to the NMFS Automated Landings Reporting System via toll-free phone at (888)872-8862; or the Internet (www.nmfspermits.com); or, if landed in the states of North Carolina or Maryland, to a reporting station prior to offloading. Information about these state harvest tagging programs, including reporting station locations, can be obtained in North Carolina by calling (800) 338-7804, and in Maryland by calling (410) 213-1531.

In addition, anglers aboard permitted vessels may continue to tag and release BFT of all sizes under a tag-and-release program, provided the angler tags all BFT so caught, regardless of whether previously tagged, with conventional tags issued or approved by NMFS, returns such fish to the sea immediately after tagging with a minimum of injury, and reports the tagging, and, if the BFT was previously tagged, the information on the previous tag (50 CFR 635.26).

General Category Retention Limits

Based on current and historical General category landings rates in the June through August time-period, it is highly unlikely that the June through August subquota will be filled in the remaining fishing days, which would result in unused quota being added to the September subquota. During the 2001 and 2002 fishing years, 156 mt and 182 mt were carried over from the June through August to the September time-period subquotas, respectively. Under § 635.23 (a)(4), NMFS may increase or decrease the daily retention limit of large medium and giant BFT over a range from zero (on restricted fishing days) to a maximum of three per vessel to allow for maximum utilization of the BFT quota. Based on a review of dealer reports, current and historical daily landing trends, and the availability of BFT on the fishing grounds, NMFS has determined that an increase of the daily retention limit in the General category is necessary in order to provide an opportunity to harvest the June through August subquota in its designated time period. Therefore, effective June 15 through August 31, 2003, the first quota subperiod, NMFS adjusts the daily retention limit to two large medium or giant BFT per vessel.

The intent of this adjustment is to allow for maximum utilization of the June through August subquota (specified under § 635.27(a)) by General category participants in order to help achieve optimum yield in the General category fishery, to collect a broad range of data for stock monitoring purposes, and to be consistent with the objectives of the Fishery Management Plan for Atlantic tunas, swordfish, and sharks (HMS FMP).

Classification

This action is taken under 50 CFR 635.23 (a)(4) and (b)(3). This action is exempt from review under Executive Order 12866.

Authority: 16 U.S.C. 971 et seq. and 1801 et seq.

Dated: June 12, 2003.
Bruce C. Morehead,
Acting Director, Office of Sustainable Fisheries, National Marine Fisheries Service.

[FR Doc. 03-15287 Filed 6-12-03; 3:52 pm]

BILLING CODE 3510-22-S